NATIONAL FOUNDATION ON THE ARTS AND THE HUMANITIES

Meetings of Humanities Panel

AGENCY: National Endowment for the Humanities.

ACTION: Notice of meetings.

SUMMARY: Pursuant to section 10(a)(2) of the Federal Advisory Committee Act (5 U.S.C. App.), notice is hereby given that eleven meetings of the Humanities Panel will be held during November, 2013 as follows. The purpose of the meetings is for panel review, discussion, evaluation, and recommendation of applications for financial assistance under the National Foundation on the Arts and Humanities Act of 1965 (20 U.S.C. 951-960, as amended).

DATES: See SUPPLEMENTARY INFORMATION section for meeting dates.

ADDRESSES: The meetings will be held at the Old Post Office Building, 1100 Pennsylvania Ave. NW., Washington, DC 20506. See Supplementary Information section for meeting room numbers.

FOR FURTHER INFORMATION CONTACT: Lisette Voyatzis, Committee Management Officer, 1100 Pennsylvania Ave. NW., Room 529, Washington, DC 20506, or call (202) 606-8322. Hearing-impaired individuals are advised that information on this matter may be obtained by contacting the National Endowment for the Humanities' TDD terminal at (202) 606-8282.

SUPPLEMENTARY INFORMATION:

Meetings

1. Date: November 1, 2013.

Time: 8:30 a.m. to 5:00 p.m.

Room: 415.

This meeting will discuss applications on the subjects of the History of Science, Technology, and Medicine for the Humanities Collections and Reference Resources grant program, submitted to the Division of Preservation and Access.

2. Date: November 1, 2013.

Time: 8:30 a.m. to 5:00 p.m.

Room: 421.

This meeting will discuss applications on the subject of Art History for the America's Historical and Cultural Organizations: Implementation Grants, submitted to the Division of Public Programs.

3. Date: November 4, 2013.

Time: 8:30 a.m. to 5:00 p.m.

Room: 421.

This meeting will discuss applications on the subjects of World History and Culture for the America's Historical and Cultural Organizations: Implementation Grants, submitted to the Division of Public Programs.

4. Date: November 5, 2013.

Time: 8:30 a.m. to 5:00 p.m.

Room: 421.

This meeting will discuss applications on the subject of U.S. History for the America's Media Makers: Production Grants, submitted to the Division of Public Programs.

5. Date: November 5, 2013.

Time: 8:30 a.m. to 5:00 p.m.

Room: 415.

This meeting will discuss applications on the subjects of U.S. History and Culture for the Humanities Collections and Reference Resources grant program, submitted to the Division of Preservation and Access.

6. Date: November 7, 2013.

Time: 8:30 a.m. to 5:00 p.m.

Room: 415.

This meeting will discuss applications on the subjects of U.S. History and Culture for the Humanities Collections and Reference Resources grant program, submitted to the Division of Preservation and Access.

7. Date: November 7, 2013.

Time: 8:30 a.m. to 5:00 p.m.

Room: 421.

This meeting will discuss applications on the subject of American Studies for America's Historical and Cultural Organizations: Implementation Grants, submitted to the Division of Public Programs.

8. Date: November 19, 2013.

Time: 8:30 a.m. to 5:00 p.m.

Room: 421.

This meeting will discuss applications on the subject of U.S. History for America's Historical and Cultural Organizations: Implementation Grants, submitted to the Division of Public Programs.

9. Date: November 19, 2013.

Time: 8:30 a.m. to 5:00 p.m.

Room: 415.

This meeting will discuss applications on the subject of American Studies for the Humanities Collections and Reference Resources grant program, submitted to the Division of Preservation and Access.

10. Date: November 22, 2013.

Time: 8:30 a.m. to 5:00 p.m.

Room: 415.

This meeting will discuss applications on the subject of World Studies for the Humanities Collections and Reference Resources grant program, submitted to the Division of Preservation and Access.

11. Date: November 30, 2013.

Time: 8:30 a.m. to 5:00 p.m.

Room: 415.

This meeting will discuss applications on the subjects of New World Archaeology and Culture for the Humanities Collections and Reference Resources grant program, submitted to the Division of Preservation and Access.

Because these meetings will include review of personal and/or proprietary financial and commercial information given in confidence to the agency by grant applicants, the meetings will be closed to the public pursuant to sections 552b(c)(4) and 552b(c)(6) of Title 5 U.S.C., as amended. I have made this determination pursuant to the authority granted me by the Chairman's Delegation of Authority to Close Advisory Committee Meetings dated July 19, 1993.

Dated: October 21, 2013.
Lisette Voyatzis,
Committee Management Officer.

[FR Doc. 2013-25080 Filed 10-23-13; 8:45 am]

BILLING CODE 7536-01-P